DEPARTMENT OF TRANSPORTATION

Federal Aviation Administration

Public Notice for Waiver of Aeronautical Land Use Assurance Colorado Springs Airport, Colorado Springs, Colorado

AGENCY: Federal Aviation Administration, (FAA), DOT.

ACTION: Notice.

SUMMARY: Notice is being given that the FAA is considering a proposal from the City of Colorado Springs Airport Director of Aviation to change a portion of the airport from aeronautical use to non-aeronautical use at Colorado Springs Airport, Colorado Springs, Colorado. The proposal involves a parcel of airport property on the Northeast side of the airfield.

DATES: Comments are due within 30 days of the date of the publication of this notice in the Federal Register. Emailed comments can be provided to Mr. Michael Matz, Project Manager/Compliance Specialist, Denver Airports District Office, michael.b.matz@faa.gov.

FOR FURTHER INFORMATION CONTACT: Mr. Gregory Phillips, Director of Aviation, Colorado Springs Airport, 7770 Milton E. Proby Parkway, Suite 50, Colorado Springs, CO 80916, 719-550-1910; or Michael Matz, Project Manager/Compliance Specialist, Denver Airports District Office, 26805 E 68th Ave., Suite 224, Denver, CO 80249, 303-342-1251, michael.b.matz@faa.gov. Documents reflecting this FAA action may be reviewed at the above locations.

SUPPLEMENTARY INFORMATION: Under the provisions of Title 49, U.S.C. 47153(c), and 47107(h)(2), the FAA is considering a proposal from the Director of Aviation, Colorado Springs Airport, to change a portion of the Colorado Springs Airport from aeronautical use to non-aeronautical use. The proposal consists of 19.62 acres of vacant land located on the Northeast side of the airport, shown as Parcel 635 on the Airport Layout Plan.

The parcel does not have airfield access and will be developed for commercial use. The FAA concurs that the parcel is no longer needed for aeronautical purposes. The proposed use of this property is compatible with existing airport operations in accordance with FAA's Policy and Procedures Concerning the Use of Airport Revenue, as published in the Federal Register on February 16, 1999.

Issued in Denver, Colorado, on July 21, 2021.
John P. Bauer,
Manager, Denver Airports District Office.

[FR Doc. 2021-15938 Filed 7-26-21; 8:45 am]

BILLING CODE 4910-13-P